DEPARTMENT OF THE INTERIOR

Minerals Management Service

[Docket No. MMS-2008-OMM-0026]

MMS Information Collection Activity: 1010-00570, Pollution Prevention and Control, Extension of a Collection; Submitted for Office of Management and Budget (OMB) Review; Comment Request

AGENCY: Minerals Management Service (MMS), Interior.

ACTION: Notice of an extension of an information collection (1010-0057).

SUMMARY: To comply with the Paperwork Reduction Act of 1995 (PRA), we are notifying the public that we have submitted to OMB an information collection request (ICR) to renew approval of the paperwork requirements in the regulations under 30 CFR Part 250, Subpart C, Pollution Prevention and Control and related documents. This notice also provides the public a second opportunity to comment on the paperwork burden of these regulatory requirements.

DATE: Submit written comments by November 21, 2008.

ADDRESSES: You should submit comments directly to the Office of Information and Regulatory Affairs, OMB, Attention: Desk Officer for the Department of the Interior (1010-0057), either by fax (202) 395-6566 or e-mail (OIRA_DOCKET@omb.eop.gov).

Please also send a copy to MMS by either of the following methods:

• http://www.regulations.gov. Under the tab, More Search Options, click Advanced Docket Search, then select, Minerals Management Service from the agency drop-down menu, then click submit. In the Docket ID column, select MMS-2008-OMM-0026 to submit public comments and to view supporting and related materials available for this rulemaking. Information on using Regulations.gov, including instructions for accessing documents, submitting comments, and viewing the docket after the close of the comment period, is available through the site's User Tips link. Submit comments to regulations.gov by November 21, 2008. The MMS will post all comments.

• Mail or hand-carry comments to the Department of the Interior; Minerals Management Service; Attention: Cheryl Blundon; 381 Elden Street, MS-4024; Herndon, Virginia 20170-4817. Please reference, Information Collection 1010-0057, in your subject line and mark your message for return receipt. Include your name and return address in your message text.

FOR FURTHER INFORMATION CONTACT: Cheryl Blundon, Regulations and Standards Branch, (703) 787-1607. You may also contact Cheryl Blundon to obtain a copy, at no cost, of the regulation that requires the subject collection of information.

SUPPLEMENTARY INFORMATION: Title: 30 CFR Part 250, Subpart C, Pollution Prevention and Control.

OMB Control Number: 1010-0057.

Abstract: The Outer Continental Shelf (OCS) Lands Act, as amended (43 U.S.C. 1331 et seq., and 43 U.S.C. 1801 et seq.), authorizes the Secretary of the Interior (Secretary) to prescribe rules and regulations to manage the mineral resources of the OCS. Such rules and regulations will apply to all operations conducted under a lease, right-of-use and easement, and pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” Section 1334(a)(8) requires that regulations prescribed by the Secretary include provisions “for compliance with the National Ambient Air Quality Standards [NAAQS] pursuant to the Clean Air Act (42 U.S.C. 7401 et seq.), to the extent that activities authorized under this Act significantly affect the air quality of any State.” Section 1843(b) calls for “regulations requiring all materials, equipment, tools, containers, and all other items used on the Outer Continental Shelf to be properly color coded, stamped, or labeled, wherever practicable, with the owner's identification prior to actual use.”

Regulations implementing these responsibilities are under 30 CFR Part 250, Subpart C. Responses are mandatory. No questions of a sensitive nature are asked. The MMS protects information considered proprietary according to 30 CFR 250.197, Data and information to be made available to the public or for limited inspection, and the Freedom of Information Act (5 U.S.C. 552) and its implementing regulations (43 CFR 2).

The MMS OCS Regions collect information required under part 250, subpart C, to ensure that:

• There is no threat of serious, irreparable, or immediate damage to the marine environment and to identify potential hazards to commercial fishing caused by OCS oil and gas exploration, development, and production activities;

• The operator records the location of items lost overboard to aid in recovery during site clearance activities on the lease;

• Operations are conducted according to all applicable regulations, permit conditions and requirements, and conducted in a safe and workmanlike manner;

• OCS oil and gas operations minimize air pollution of the OCS and adjacent onshore areas and comply with the required emission levels;

• A data baseline is established for the meteorological conditions in frontier areas of the OCS to determine that offshore facilities and operational practices can withstand the expected environmental forces in an area;

• Discharge or disposal of drill cuttings, sand, and other well solids, including those containing naturally occurring radioactive materials (NORM), are properly handled for the protection of OCS workers and the environment; and

• Facilities are inspected daily for the prevention of pollution, and problems observed are corrected.

For the Gulf of Mexico OCS Region (GOMR), this ICR also addresses the following non-routine information collection:

• The Environmental Protection Agency (EPA) promulgated National Ambient Air Quality Standards (NAAQS) for ozone, fine (i.e., < 2.5 micron) particulate matter (PM2.5), and regulations for regional haze. Air quality related information will be needed to address any new or outstanding NAAQS and regional haze regulations. In preparation for usage by States and regional planning organizations, affected respondents are being required to collect and report air pollutant emissions data for OCS activities in the GOMR for the 2008 calendar year. This data will be used in future regional air quality modeling in support of revisions to State Implementation Plans and other air quality regulations. OCS lessees and operators are being required to collect these emissions data during the period of 1/1/08 to 12/31/08 and report the data to MMS in 2009.

Frequency: On occasion, daily.

Estimated Number and Description of Respondents: Approximately 130 potential Federal oil, gas, and sulphur lessees and/or operators and 17 states.

Estimated Reporting and Recordkeeping “Hour” Burden: The estimated annual hour burden for this information collection is a total of 198,866 hours. The following chart details the individual components and estimated hour burdens. In calculating the burdens, we assumed that respondents perform certain requirements in the normal course of their activities. We consider these to be usual and customary and took that into account in estimating the burden.

Citation 30 CFR 250 Subpart C and related NTL(s) | Reporting and recordkeeping requirement | Hour burden | Average number of annual responses | Annual burden hours
Pollution Prevention
300(b)(1), (2) | Obtain approval to add petroleum-based substance to drilling mud system or approval for method of disposal of drill cuttings, sand, & other well solids, including those containing NORM | Burden covered under 1010-0141 (30 CFR Part 250, Subpart D). |  | 0
300(c) | Mark items that could snag or damage fishing devices | 0.5 | 130 lessees | 65
300(d) | Report and record items lost overboard | 1 hr ea × 2 = 2 | 130 lessees | 260
Subtotal | 260 | 325
Inspection of Facilities
301(a) | Inspect drilling/production facilities for pollution; maintain inspection/repair records 2 years | ¼ hr/day × 365 days = 91.25 | 1,000 manned facilities | 91,250
| 1/12 hr every 3rd day (365/3 = 122) = 10.17 hrs | 3,000 unmanned facilities | 30,510
Subtotal | 4,000 | 121,760
Facilities described in new or revised EP or DPP
303(a) thru (d), (i), (j); 304(a), (f) | Submit, modify, or revise Exploration Plans and Development and Production Plans; submit information required under 30 CFR Part 250, Subpart B | Burden covered under 1010-0151 (30 CFR Part 250, Subpart B). |  | 0
303(k); 304(a), (g) | Collect and report air quality emissions related data (such as facility, equipment, fuel usage, and other activity information) during the calendar year 2008 for input into State and regional planning organizations modeling | 4 hrs per month × 12 months = 48 | 1,585 platforms | 76,080
303(l); 304(h) | Collect and submit meteorological data (not routinely collected—minimal burden) | 1 | 1 | 1
Subtotal | 1,586 | 76,081
Existing Facilities
304(a), (f) | Affected State may submit request to MMS for basic emission data from existing facilities to update State's emission inventory | 4 | 5 requests | 20
304(e)(2) | Submit compliance schedule for application of best available control technology (BACT) | 40 | 10 schedules | 400
304(e)(2) | Apply for suspension of operations | Burden covered under 1010-0114 (30 CFR Part 250, Subpart A). |  | 0
304(f) | Submit information to demonstrate that exempt facility is not significantly affecting air quality of onshore area of a State | 15 | 10 submissions | 150
Subtotal | 25 | 570
General
300-304 | General departure and alternative compliance requests not specifically covered elsewhere in subpart C regulations | 2 | 65 requests | 130
Subtotal | 65 | 130
Total Burden | 5,936 | 198,866

Estimated Reporting and Recordkeeping “Non-Hour Cost” Burden: We have identified no paperwork non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on May 28, 2008, we published a Federal Register notice (73 FR 30625) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by November 21, 2008.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: August 1, 2008.
E.P. Danenberger,
Chief, Office of Offshore Regulatory Programs.

[FR Doc. E8-25047 Filed 10-21-08; 8:45 am]

BILLING CODE 4310-MR-P